FEDERAL COMMUNICATIONS COMMISSION

Notice of Public Information Collection(s) Being Submitted to OMB for Review and Approval

August 8, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 17, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0024.

Title: Section 76.29, Special Temporary Authority.

Form Number: N/A.

Type of Review: Extension of a currently approved collection.

Respondents: Businesses or other for-profit entities.

Number of Respondents: 1.

Estimated Time per Response: 3 hrs.

Frequency of Response: On occasion reporting requirements; Third party disclosure.

Total Annual Burden: 3 hrs.

Total Annual Costs: None.

Needs and Uses: 47 CFR Section 76.29 states that in circumstances requiring the temporary use of community units for operations not authorized by FCC rules, a cable television system may request special temporary authority to operate. The Commission may grant special temporary authority, upon finding that the public interest would be served. Requests for special temporary authority may be submitted informally by letter.

OMB Control Number: 3060-0501.

Title: Section 76.206, Candidate Rates.

Form Number: N/A.

Type of Review: Extension of a currently approved collection.

Respondents: Business or other for-profit entities.

Number of Respondents: 5,200.

Estimated Time per Response: 0.5 to 10 hrs.

Frequency of Response: One time reporting requirement; Third party disclosure.

Total Annual Burden: 135,200 hrs.

Total Annual Costs: None.

Needs and Uses: 47 CFR Section 76.206 requires cable system operators to disclose and make available to candidates all discount privileges available to commercial advertisers. In addition, Section 76.206 requires cable systems to disclose any station practices offered to commercial advertisers that enhance the value of advertising spots and different classes of time—immediately preemptible, preemptible with notice, fixed, fire sale, and make good. It also requires cable systems to calculate the lowest unit charge.

OMB Control Number: 3060-0560.

Title: Section 76.911, Petition for Reconsideration of Certification.

Form Number: N/A.

Type of Review: Extension of a currently approved collection.

Respondents: Business or other for-profit entities; and State, local, or tribal governments.

Number of Respondents: 45.

Estimated Time per Response: 2 to 10 hrs.

Frequency of Response: On occasion reporting requirement; Third party disclosure.

Total Annual Burden: 410 hrs.

Total Annual Costs: None.

Needs and Uses: Cable television operators can file petitions for reconsideration to challenge a franchising authority's certification. The Commission uses information derived from these petitions for reconsideration of certification to resolve disputes concerning the presence or absence of effective competition in franchise areas and to determine whether there are grounds for denying franchising authority certifications to regulate rates.

OMB Control Number: 3060-0595.

Title: Updating Maximum Permitted Rates for Regulated Services and Equipment.

Form Number: FCC 1210.

Type of Review: Extension of a currently approved collection.

Respondents: Business or other for-profit entities; and State, local, or tribal governments.

Number of Respondents: 3,900.

Estimated Time per Response: 2 to 10 hrs.

Frequency of Response: On occasion reporting requirement; Third party disclosure.

Total Annual Burden: 36,000 hrs.

Total Annual Costs: $1,500,000.

Needs and Uses: FCC Form 1210 is used by cable operators to file for adjustments in maximum permitted rates for regulated services to reflect external costs. Regulated cable operators submit this form to local franchising authorities (LFAs) or the Commission (in situations where the FCC has assumed jurisdiction). It is also filed with the Commission when responding to a complaint filed with the Commission concerning cable programming service rates and associated equipment. The Commission and LFAs use the data to adjudicate permitted rates for regulated cable services and equipment, for the addition of new programming tiers, to account for the addition and deletion of channels, and for the allowance for pass throughs of external costs and costs due to inflation.

Federal Communications Commission.
Magalie Roman Salas,
Secretary.

[FR Doc. 01-20703 Filed 8-16-01; 8:45 am]

BILLING CODE 6712-01-P